DEPARTMENT OF HEALTH AND HUMAN SERVICES

Health Resources and Services Administration

Privacy Act of 1974; Report of an Altered System of Records

AGENCY: Department of Health and Human Service (HHS), Health Resources and Services Administration (HRSA).

ACTION: Notice of an altered System of Records (SOR).

SUMMARY: In accordance with the requirements of the Privacy Act of 1974, the Health Resources and Services Administration (HRSA) is proposing to alter a system of records for Disability Claims of the Nursing Student Loan Program in the Bureau of Health Professions, SORN 09-15-0038, at the Division of Student Loans and Scholarships (DSLS). This system includes information on applicants for cancellation of health professions and nursing student loans due to disability. It includes letter requests claiming disability, correspondence, payment determinations and medical records or reports. The records in this system will be used to determine the eligibility of applicants who request loan cancellation due to total and permanent disability. The specific purpose of these alterations are to combine SORN 09-15-0038 with SORN 09-15-0039, and to change the name of the system, the system location, categories of individuals covered by the system, categories of records in the system, and the authority for maintenance of the system. In addition, two new routine uses (numbers 4 & 5) were added and the policies and practices for storing, retrieving, accessing, retaining, and disposing of records in the system were changed. The purpose of this proposed alteration is to include breach notification language required by Memoranda (M) 07-16, Safeguarding Against and responding to the Breach of Personally Identifiable Information, released on May 22, 2007 by OMB. The system managers and address have changed along with notification, request, and records access procedures. Contesting records procedures and record source categories have also been changed and record source categories have been added.

DATES: HRSA filed an altered system report with the Chair of the House Committee on Government Reform and Oversight, the Chair of the Senate Committee on Homeland Security and Governmental Affairs, and the Administrator, Office of Information and Regulatory Affairs, Office of Management and Budget (OMB) on 1/19/2010. To ensure all parties have adequate time in which to comment, the altered system, including the routine uses, will be become effective 30 days from the publication of the notice or 40 days from the date it was submitted to OMB and Congress, whichever is later, unless HRSA receives comments that require alterations to this notice.

ADDRESSES: Please address comments to Bureau of Health Professions, Health Resources and Services Administration, 5600 Fishers Lane, Room 9-05, Rockville, Maryland 20857; 301-443-5794. This is not a toll-free number. Comments received will be available for inspection at this same address from 9 a.m. to 3 p.m., (eastern standard time zone), Monday through Friday.

FOR FURTHER INFORMATION CONTACT: Director, Division of Student Loans and Scholarships, Bureau of Health Professions, Health Resources and Services Administration, Department of Health and Human Services, 5600 Fishers Lane, Room 9-105, Rockville, MD 20857; Telephone: (301) 443-5452. This is not a toll-free number.

SUPPLEMENTARY INFORMATION: The Health Resources and Services Administration proposes to alter this system of records: “Disability Claims in the Nursing Student Loan Program, HHS/HRSA/BHPr” (SORN 09-15-0038). SOR 09-15-0038 is altered by adding Disability Claims in the Health Professions Student Loan Program, HHS/HRSA/BHPr” (SORN 09-15-0039 will be deleted); and changing the name to “Disability Claims in the Health Professions Student Loan Program and Nursing Student Loan Program, HHS/HRSA/BHPr (SORN 09-15-0038), for applicants of disability claims in the Health Professions Student Loan Program and Nursing Student Loan Program, at the DSLS. The system location is being changed from Room 9-105 and the categories of individuals covered by the system have been expanded to include applicants for cancellation of health professions and nursing student loans due to disability. Section 722(d) of the Public Health Service Act, as amended (42 U.S.C. 292r), Health Professions Student Loan Program has been added to the authority for maintenance of the system. Appropriate federal agencies, department contractors, and HRSA medical staff have been added to the categories of users in the routine uses section for purposes of responding to security breaches and approving disability write-off. The storage policy has been expanded to read “returned to and retained by health professions schools” and the safeguards section has been expanded to include the Department's contractors as authorized users. The system manager(s) and address has been changed to reflect the new location of the system. Additional requisites for obtaining notification of or access to records have been added to the notification procedure; the procedure for a request in person has been changed to include procedures for a situation in which an individual does not have identification papers and requests by mail have been updated to include slightly different requirements to request record notification by mail. Records access procedures are now the same as notification procedures. The new location of the system has been added as the primary contact in the contesting records procedures section. Record source categories have been added and include educational institutions, financial aid officers, and borrowers.

Dated: November 30, 2009.
Mary K. Wakefield,
Administrator.

SYSTEM NUMBER:

09-15-0038

SYSTEM NAME:

Disability Claims in the Health Professions Student Loan Program and Nursing Student Loan Program, HHS/HRSA/BHPr.

SECURITY CLASSIFICATION:

None.

SYSTEM LOCATION:

• Division of Student Loans and Scholarships, Bureau of Health Professions, Health Resources and Services Administration, 5600 Fishers Lane, Room 9-105, Rockville, MD 20857.

• Washington National Records Center, 4204 Suitland Road, Suitland, MD 20409.

CATEGORIES OF INDIVIDUALS COVERED BY THE SYSTEM:

Applicants for cancellation of health professions student loans and nursing student loans due to disability.

CATEGORIES OF RECORDS IN THE SYSTEM:

Letter requests claiming disability, correspondence, payment determinations and medical records or reports.

AUTHORITY FOR MAINTENANCE OF THE SYSTEM:

Section 722(d) of the Public Health Service Act, as amended (42 U.S.C. 292r (d)), Health Professions Student Loan Program provisions; Section 836(b)(4) of the Public Health Service Act, as amended (42 U.S.C. 297b (b)(4)), Nursing Student Loan Provisions.

PURPOSE(S):

To determine the eligibility of applicants who request loan cancellation due to total and permanent disability.

ROUTINE USES OF RECORDS MAINTAINED IN THE SYSTEM, INCLUDING CATEGORIES OF USERS AND THE PURPOSES OF SUCH USES:

1. Disclosure may be made to a congressional office from the record of an individual in response to a verified inquiry from the congressional office made at the written request of that individual.

2. Disclosure may be made to the Department of Justice to enable that Department to present an effective defense, provided that such disclosure is compatible with the purpose for which the records were collected, in the event of litigation where the defendant is:

a. The Department, any component of the Department, or any employee of the Department in his or her official capacity;

b. The United States where the Department determines that the claim, if successful, is likely to directly affect the operations of the Department or any of its components; or

c. Any Department employee in his or her individual capacity where the Justice Department has agreed to represent such employee, for example in defending a claim against the Public Health Service based upon an individual's mental or physical condition and alleged to have arisen because of activities of the Public Health Service in connection with such individual.

3. In the event that a system of records maintained by this agency to carry out its functions indicates a violation or potential violation of law, whether civil, criminal or regulatory in nature, and whether arising by general statute or particular program statute, or by regulation, rule or order issued pursuant thereto, the relevant records in the system of records may be referred to the appropriate agency, whether Federal, State or local, charged with enforcing or implementing the statute or rule, regulation or order issued pursuant thereto.

4. Disclosure to appropriate federal agencies and Department contractors that have a need to know the information for the purpose of assisting the Department's efforts to respond to a suspected or confirmed breach of the security or confidentiality of information maintained in this system of records, and the information disclosed is relevant and necessary for that assistance.

5. Disability statements are reviewed by HRSA medical staff/contractors via inter-agency agreement for the purpose of approving the disability write-off.

POLICIES AND PRACTICES FOR STORING, RETRIEVING, ACCESSING, RETAINING, AND DISPOSING OF RECORDS IN THE SYSTEM:

Storage:

File folders. Medical records and reports are temporarily held during medical evaluation and returned to, and retained by, health professions schools after final determination of claim validity.

Retrievability:

Name of individual claiming disability.

Safeguards:

• Authorized users: Access to Borrower's Files is limited to only those individuals within the Department and the Department's contractors having a substantiated need for information. These individuals must have available proof of employment.

• Physical safeguards: File folders, medical records, reports and other forms of personal data are stored in areas where files are locked or rooms locked during off duty hours.

• Procedural safeguards: All users of personal information in connection with the performance of their job protect information from public view and from unauthorized personnel entering an unsupervised office. Access to records is strictly limited to those staff members trained in accordance with the Privacy Act.

• Implementation guidelines: HHS Chapter 45-13 and supplementary Chapter PHS.hf: 45-13 of the General Administration Manual.

Retention and Disposal:

Records will be retained for 6 years after phase out of loan program; 1 year on site and 5 years at the Federal Records Center. Records are disposed of in accordance with the Records Control Schedule of the Health Resources and Services Administration. Contact the System Manager for the disposal standards.

SYSTEM MANAGER(S) AND ADDRESS:

Director, Division of Students Loans and Scholarships, Bureau of Health Professions, Health Resources and Services Administration, Department of Health and Human Services, 5600 Fishers Lane, Room 9-105, Rockville, Maryland 20857.

NOTIFICATION PROCEDURE:

Requests concerning whether the system contains records about you should be made to the Systems Manager. When requesting notification of, or access to, records covered by this Notice, an individual must provide his/her full name, date of birth, and other proof of identity as required for Privacy Requests. Information requested may be redacted. An individual may request notification of, or access to, a medical record pertaining to him. An individual who requests notification of, or access to, a medical record shall, at the time the request is made, designate a representative in writing. The representative may be a physician or other responsible individual, who would be willing to review the record and inform the subject individual of its contents.

Request in person: A subject individual who appears in person at a specific location seeking access or disclosure of records relating to him/her shall provide his/her name, current address, and at least one piece of tangible identification such as driver's license, passport, voter registration card, or union card. Identification papers with current photographs are preferred but not required. Additional identification may be requested when there is a request for access to records which contain an apparent discrepancy between information contained in the records and that provided by the individual requesting access to the records. Where the subject individual has no identification papers, the responsible agency official shall require that the subject individual certify in writing that he/she is the individual who he/she claims to be and that he/she understands that the knowing and willful request or acquisition of a record concerning an individual under false pretenses is a criminal offense subject to a $5,000 fine.

Requests by mail: A written request must contain the name and address of the requester, and his/her signature which is either notarized to verify his/her identity or includes a written certification that the requester is the person he/she claims to be and that he/she understands that the knowing and willful request or acquisition of records pertaining to an individual under false pretenses is a criminal offense subject to a $5,000 fine.

Requests by telephone: Because positive identification of the caller cannot be established, no requests by telephone will be honored.

RECORDS ACCESS PROCEDURES:

Same as notification procedures. Requesters should also provide a reasonable description of the record being sought.

CONTESTING RECORDS PROCEDURES:

Any record subject may contest the accuracy of information on file at Campus Based Branch (CBB) by writing to the Director, Division of Students Loans and Scholarships, Bureau of Health Professions, Health Resources and Services Administration, Department of Health and Human Services, 5600 Fishers Lane, Room 9-105, Rockville, Maryland 20857. The request should contain a reasonable description of the record, specify the information being contested, the corrective action sought, and the reasons for requesting the correction, along with supporting information to show how the record is inaccurate, incomplete, untimely or irrelevant.

RECORD SOURCE CATEGORIES:

1. Educational institutions requesting disability write-offs.

2. Financial aid officers administering disability write-offs.

3. Borrowers submitted for total disability write-offs.

SYSTEMS EXEMPTED FROM CERTAIN PROVISIONS OF THE PRIVACY ACT:

None.

[FR Doc. 2010-2243 Filed 2-2-10; 8:45 am]

BILLING CODE 4160-15-P